DEPARTMENT OF DEFENSE

Department of the Army

Reserve Officers' Training Corps (ROTC) Program Subcommittee

AGENCY: Department of the Army, DoD.

ACTION: Notice; cancellation.

SUMMARY: The Reserve Officers' Training Corps (ROTC) Program Subcommittee meetings scheduled for July 6 and 7, 2005 from 0800-1700 published in the Federal Register on Wednesday, June 22, 2005 (70 FR 36128) has been cancelled.

FOR FURTHER INFORMATION CONTACT: Mr. Pierre Blackwell, U.S. Army Cadet Command (ATCC-TR), Fort Monroe, VA 23651 at (757) 788-4326.

SUPPLEMENTARY INFORMATION: None.

Brenda S. Bowen,
Army Federal Register Liaison Officer.

[FR Doc. 05-13019 Filed 6-30-05; 8:45 am]

BILLING CODE 3710-08-M